DEPARTMENT OF AGRICULTURE

Submission for OMB Review; Comment Request

April 1, 2020.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 7, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Resource Management and Chemical Use Surveys—Substantive Change.

OMB Control Number: 0535-0218.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

Using the Agricultural Resource Management Survey (ARMS) and the Vegetable Chemical Use Survey, NASS collects environmental data which includes cropping practices, fertilizer applications, pesticide usage for weeds, insects, fungus, mold, etc., and the use of various pest management practices. Through cooperative agreements with the Economic Research Service and the Office of Pest Management Policy NASS collects additional data to aid in there research. The additional questions that will be added to the questionnaires that were not in the original approval will address topics such as seed treatments, GPS enabled equipment, nutrient management, crop insurance, environmental regulations, organic production practices, etc. Complete listings of the questions added and deleted have been added as supplemental documents to this submission.

This substantive change will not change the sample sizes of any of the surveys only the content of the ARMS II surveys for rice, corn and soybeans, the Vegetable Chemical Use Survey and the Cropping Practices Survey (done under a cooperative agreement with Mississippi State University). A detailed listing of the changes are attached to the docket submission. Based on the ARMS II and the Fruit Chemical Use surveys conducted in 2019, in which the field enumerators were asked to record beginning and ending times for personal interviews the changes in average burden per questionnaire a 10 to 15 minute increase was added to the questionnaires. This resulted in a net increase in respondent burden of 442 hours above the currently approved annual average total.

Need and Use of the Information: The Office of Pest Management Policy (OPMP), the Economic Research Service (ERS), and the Mississippi State University Extension Service (MSUES) will be able to better address changes in the farming practices and chemicals used on these crops that have occurred since the original approval of this docket.

Description of Respondents: Farms.

Number of Respondents: 16,815.

Frequency of Responses: Reporting: Once.

Total Burden Hours: 13,610.

Ruth Brown,
Departmental Information Collection Clearance Officer.

[FR Doc. 2020-07220 Filed 4-6-20; 8:45 am]

BILLING CODE 3410-20-P